FEDERAL COMMUNICATIONS COMMISSION

47 CFR Part 73

[DA 04-503; MB Docket No. 04-42; RM-10850]

Radio Broadcasting Services; Bowling Green and Glasgow, KY

AGENCY: Federal Communications Commission.

ACTION: Proposed rule.

SUMMARY: This document requests comments on a petition for rulemaking filed by Heritage Communications, Inc. requesting the reallotment of Channel 236C0 from Glasgow, Kentucky, to Bowling Green, Kentucky, and modification of the license for Station WGGC to reflect the changes. Channel 236C0 can be allotted to Bowling Green at coordinates 36-54-43 and 86-11-21. The license for Station WGGC was modified to specify operation on Channel 236C0 in lieu of Channel 236C at Glasgow, Kentucky. See BMLH-19990728KA. The proposal complies with the provisions of Section 1.420(i) of the Commission's Rules, and therefore, the Commission will not accept competing expressions of interest in the use of Channel 236C0 at Bowling Green.

DATES: Comments must be filed on or before April 19, 2004, and reply comments on or before May 4, 2004.

ADDRESSES: Office of the Secretary, Federal Communications Commission, 445 Twelfth Street, SW., Room TW-A325, Washington, DC 20554. In addition to filing comments with the FCC, interested parties should serve the petitioner's counsel, as follows: Mark N. Lipp, J. Thomas Nolan, Vinson & Elkins, L.L.P., 1455 Pennsylvania Avenue, Washington, DC 20004-1008.

FOR FURTHER INFORMATION CONTACT: Kathleen Scheuerle, Media Bureau, (202) 418-2180.

SUPPLEMENTARY INFORMATION: This is a synopsis of the Commission's Notice of Proposed Rule Making, MB Docket No. 04-42, adopted February 25, 2004, and released February 27, 2004. The full text of this Commission decision is available for inspection and copying during normal business hours in the FCC's Reference Information Center at Portals II, CY-A257, 445 Twelfth Street, SW., Washington, DC. This document may also be purchased from the Commission's duplicating contractors, Qualex International, Portals II, 445 12th Street, SW., Room CY-B402, Washington, DC 20554, telephone 202-863-2893, or via e-mail qualexint@aol.com.

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Kentucky, is amended by removing Channel 236C at Glasgow and adding Channel 236C0 at Bowling Green.

Federal Communications Commission.
John A. Karousos,
Assistant Chief, Audio Division, Media Bureau.

[FR Doc. 04-5911 Filed 3-15-04; 8:45 am]

BILLING CODE 6712-01-P